DEPARTMENT OF HOMELAND SECURITY

Coast Guard

33 CFR Parts 3, 100, 165

[Docket Number USCG-2023-0970]

RIN 1625-AA00

Coast Guard Sector Sault Sainte Marie; Sector Name Conforming Amendment

AGENCY: Coast Guard, DHS.

ACTION: Final rule.

SUMMARY: The rule makes non-substantive changes to Coast Guard regulations in association with a change in the Coast Guard's internal organization. The purpose of this rule is to reflect that U.S. Coast Guard Sector Sault Sainte Marie has been renamed U.S. Coast Guard Sector Northern Great Lakes. This rule will have no substantive effect on the regulated public.

DATES: This rule is effective without actual notice December 21, 2023. For the purposes of enforcement, actual notice will be used from December 1, 2023, until December 21, 2023.

ADDRESSES: To view documents mentioned in this preamble as being available in the docket, go to https://www.regulations.gov, type USCG-2023-0970 in the search box and click “Search.” Next, in the Document Type column, select “Supporting & Related Material.”

FOR FURTHER INFORMATION CONTACT: If you have questions about this rule, call or email Chief Warrant Officer Charles Palmer, U.S. Coast Guard; telephone 906-253-2462, email Charles.b.palmer@uscg.mil.

SUPPLEMENTARY INFORMATION:

I. Table of Abbreviations

AOR Area of responsibility

CFR Code of Federal Regulations

COTP Captain of the Port

DHS Department of Homeland Security

FR Federal Register

NPRM Notice of Proposed Rulemaking

OCMI Officer in Charge of Marine Inspections

OFCO Operating Facility Change Order

SAR Search and Rescue

§ Section

U.S.C. United States Code

II. Background Information and Regulatory History

For the last several years, the Coast Guard has sought to better align the names of its assets to correspond to the area of responsibility which they serve. Review of the missions and engagements within the northern Great Lakes region highlighted that “Sector Sault Sainte Marie” alone did not adequately capture the breadth and range of Coast Guard operations and relationships throughout the region. The Coast Guard has approved the name change to U.S. Coast Guard Sector Northern Great Lakes to acknowledge the long-standing commitment to all communities of the region and to reaffirm the multi-mission support that the Coast Guard provides to ensure safety at sea and enhanced maritime governance. The geographic boundaries of Sector Northern Great Lakes are not changing, and its office is not moving from Sault Sainte Marie, MI.

We did not publish a notice of proposed rulemaking (NPRM) before this final rule. The Coast Guard finds that this rule is exempt from notice and comment rulemaking requirements under 5 U.S.C. 553(b)(A) because the changes it makes are conforming amendments involving agency organization. The Coast Guard also finds good cause exists under 5 U.S.C. 553(b)(B) for not publishing an NPRM because the changes will have no substantive effect on the public and notice and comment are therefore unnecessary. For the same reasons, the Coast Guard finds good cause exists under 5 U.S.C. 553(d)(3) to make the rule effective fewer than 30 days after publication in the Federal Register.

III. Legal Authority and Need for Rule

The Coast Guard is issuing this rule under authority in 14 U.S.C. 504(a)(2), as delegated at 33 CFR 1.05-1(h), to issue regulations necessary to implement technical, organizational, and conforming amendments and corrections to rules, regulations, and notices.

On November 06, 2023, the Coast Guard issued Operating Facility Change Order (OFCO) No. 037-23 which changed the official unit name of U.S. Coast Guard Sector Sault Sainte Marie to U.S. Coast Guard Sector Northern Great Lakes. The previous name of Sector Sault Sainte Marie is described and reflected in regulations, which also contain contact details and other references to Sector Sault Sainte Marie. These conforming amendments update those regulations so that they contain current information.

Under 14 U.S.C. 504(a)(2), the Commandant of the Coast Guard has the authority to establish and prescribe the purpose of Coast Guard Shore establishments. This authority has been delegated to the Chief of the Coast Guard's Office of Regulations and Administrative Law under 33 CFR 1.05-1(h).

IV. Discussion of the Rule

OFCO No. 037-23, issued November 06, 2023, changed the official unit name of U.S. Coast Guard Sector Sault Sainte Marie to U.S. Coast Guard Sector Northern Great Lakes. The November 2023 OFCO did not change the area of responsibility (AOR). The AOR of U.S. Coast Guard Sector Northern Great Lakes is identical to that of what was U.S. Coast Guard Sector Sault Sainte Marie. All authorities and responsibilities previously assigned to Commander, U.S. Coast Guard Sector Sault Sainte Marie have been assigned to Commander, U.S. Coast Guard Sector Northern Great Lakes. Additionally, all authorities that were vested in the Commander, U.S. Coast Guard Sector Sault Sainte Marie as it pertains to the COTP, the OCMI, the Federal On Scene Coordinator, the Federal Maritime Security Coordinator, and the Search and Rescue Coordinator, have been assigned to Commander, U.S. Coast Guard Sector Northern Great Lakes. This rule does not change any sector, OCMI, or COTP zone boundary lines, nor does it have any substantive impact on existing regulated navigation area, safety zone, or security zone regulation, or any naval vessel protection zones.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the finding that the name change will have no substantive effect on the public.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

For the reasons stated in section V.A. above, this rule will not have a significant economic impact on any member of the public, including “small entities.”

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule consists only of an organizational amendment. It is categorically excluded from further review under paragraph L3 of Appendix A, Table 1 of DHS Instruction Manual 023-01-001-01, Rev. 1, Implementation of the National Environmental Policy Act.

List of Subjects

33 CFR Part 3

Organization and functions (Government agencies).

33 CFR Part 100

Harbors, Marine safety, Navigation (water), Reporting and recordkeeping requirements, Security measures, Waterways.

33 CFR Part 165

Harbors, Marine safety, Navigation (water), Reporting and recordkeeping requirements, Security measures, Waterways.

For the reasons discussed in the preamble, the Coast Guard amends 33 CFR parts 3, 100, and 165 as follows:

PART 3—COAST GUARD AREAS, DISTRICTS, SECTORS, MARINE INSPECTION ZONES, AND CAPTAIN OF THE PORT ZONES

1. The authority citation for part 3 continues to read as follows:

Authority: 14 U.S.C. 501, 504; Pub. L. 107-296, 116 Stat. 2135; Department of Homeland Security Delegation No. 00170.1, Revision No. 01.3.

§ 3.45-45 [Amended]

2. Amend § 3.45-45 by removing the words “Sector Sault Ste. Marie” and adding in their place the words “Sector Northern Great Lakes” in the section heading and removing the words “Sector Sault Ste. Marie's” and adding in their place the words “Sector Northern Great Lakes' ” in the introductory text and paragraph (a).

PART 100—SAFETY OF LIFE ON NAVIGABLE WATERS

3. The authority citation for part 100 continues to read as follows:

Authority: 46 U.S.C. 70041; 33 CFR 1.05-1.

§ 100.901 [Amended]

4. Amend § 100.901 in table 1 by removing the words “Sector Sault Ste. Marie” and adding in their place the words “Sector Northern Great Lakes” in the center heading above the entry “(1) Bridgefest Regatta Sponsor: Bridgefest Committee”.

PART 165—REGULATED NAVIGATION AREAS AND LIMITED ACCESS AREAS

5. The authority citation for part 165 continues to read as follows:

Authority: 46 U.S.C. 70034, 70051, 70124; 33 CFR 1.05-1, 6.04-1, 6.04-6, and 160.5; Department of Homeland Security Delegation No. 00170.1, Revision No. 01.3.

§ 165.918 [Amended]

6. Amend § 165.918 by removing the words “Port Sault Sainte Marie” and adding in their place the words “Port Northern Great Lakes” in the section heading and wherever they appear in paragraphs (a)(1) through (3), (b), (d), and (e).

§ 165.928 [Amended]

7. Amend § 165.928 in paragraph (g) by removing the words “Sault Ste. Marie” and adding in their place the words “Northern Great Lakes”.

§ 165.944 [Amended]

8. Amend § 165.944 in paragraphs (d)(1) and (e) by removing the words “Sault Sainte Marie” and adding in their place the words “Northern Great Lakes”.

Dated: December 18, 2023.
Michael T. Cunningham,
Chief, Office of Regulations and Administrative Law.

[FR Doc. 2023-28103 Filed 12-20-23; 8:45 am]

BILLING CODE 9110-04-P